DEPARTMENT OF ENERGY

Federal Energy Regulatory Commission

Combined Notice of Filings #1

Take notice that the Commission received the following exempt wholesale generator filings:

Docket Numbers: EG22-7-000.

Applicants: EnerSmart Chula Vista BESS LLC.

Description: Notice of Self-Certification of Exempt Wholesale Generator Status of EnerSmart Chula Vista BESS LLC.

Filed Date: 10/8/21.

Accession Number: 20211008-5318.

Comment Date: 5 p.m. ET 10/29/21.

Take notice that the Commission received the following Complaints and Compliance filings in EL Dockets:

Docket Numbers: EL00-95-312; EL00-98-284.

Applicants: Investigation of Practices of the California Independent System Operator and the California Power Exchange, San Diego Gas & Electric Company v. Sellers of Energy and Ancillary Services.

Description: Notice of the California Power Exchange Corporation of Wire Transfer Information Provided by Participants for the Final Market Clearing.

Filed Date: 10/8/21.

Accession Number: 20211008-5320.

Comment Date: 5 p.m. ET 10/29/21.

Docket Numbers: EL00-95-313; EL00-98-285.

Applicants: Investigation of Practices of the California Independent System Operator. and the California Power Exchange, San Diego Gas & Electric Company v. Sellers of Energy and Ancillary Services.

Description: Schedule of Final Balances of California Parties and Indicated Attorneys General.

Filed Date: 10/8/21.

Accession Number: 20211008-5321

Comment Date: 5 p.m. ET 10/29/21.

Docket Numbers: EL22-2-001.

Applicants: New York Independent System Operator, Inc.

Description: Compliance filing: Errata to Section 206—ROFR to be effective 10/12/2021.

Filed Date: 10/13/21.

Accession Number: 20211013-5195.

Comment Date: 5 p.m. ET 11/2/21.

Take notice that the Commission received the following electric rate filings:

Docket Numbers: ER17-2342-002.

Applicants: Bladen Solar, LLC.

Description: Compliance filing: Bladen MBR Change in Category to be effective 10/14/2021.

Filed Date: 10/13/21.

Accession Number: 20211013-5196.

Comment Date: 5 p.m. ET 11/3/21.

Docket Numbers: ER17-2343-002.

Applicants: Bullock Solar, LLC.

Description: Compliance filing: Bullock MBR Change in Category to be effective 10/14/2021.

Filed Date: 10/13/21.

Accession Number: 20211013-5197.

Comment Date: 5 p.m. ET 11/3/21.

Docket Numbers: ER18-348-002.

Applicants: Shoe Creek Solar LLC.

Description: Compliance filing: Shoe Creek MBR Change in Category to be effective 10/14/2021.

Filed Date: 10/13/21.

Accession Number: 20211013-5198.

Comment Date: 5 p.m. ET 11/3/21.

Docket Numbers: ER21-1506-002.

Applicants: Shaw Creek Solar, LLC.

Description: Refund Report: Shaw Creek Solar, LLC Refund Report of Sellers to be effective N/A.

Filed Date: 10/14/21.

Accession Number: 20211014-5093.

Comment Date: 5 p.m. ET 11/4/21.

Docket Numbers: ER22-100-000.

Applicants: Avista Corporation.

Description: § 205(d) Rate Filing: Avista Corp T1168-1 Amended Construction Agmt BPA Walla Walla Wannapum to be effective 10/15/2021.

Filed Date: 10/14/21.

Accession Number: 20211014-5039.

Comment Date: 5 p.m. ET 11/4/21.

Docket Numbers: ER22-101-000.

Applicants: Otter Tail Power Company.

Description: § 205(d) Rate Filing: Filing of Certificate of Concurrence—NSP OMA to be effective 8/12/2011.

Filed Date: 10/14/21.

Accession Number: 20211014-5041.

Comment Date: 5 p.m. ET 11/4/21.

Docket Numbers: ER22-102-000.

Applicants: NorthWestern Corporation, Southwest Power Pool, Inc.

Description: Compliance filing: NorthWestern Corporation submits tariff filing per 35: Petition of Southwest Power Pool and NorthWestern Corporation.

Filed Date: 10/14/21.

Accession Number: 20211014-5058.

Comment Date: 5 p.m. ET 11/4/21.

Docket Numbers: ER22-103-000.

Applicants: Southwest Power Pool, Inc.

Description: § 205(d) Rate Filing: 3127R5 Montana-Dakota Utilities Co. NITSA NOA to be effective 1/1/2022.

Filed Date: 10/14/21.

Accession Number: 20211014-5062.

Comment Date: 5 p.m. ET 11/4/21.

Docket Numbers: ER22-104-000.

Applicants: PJM Interconnection, L.L.C.

Description: Tariff Amendment: Notice of Cancellation of ISA, SA No. 5887; Queue No. AF2-045 re: breach to be effective 10/8/2021.

Filed Date: 10/14/21.

Accession Number: 20211014-5063.

Comment Date: 5 p.m. ET 11/4/21.

Docket Numbers: ER22-105-000.

Applicants: Beech Ridge Energy II Holdings LLC.

Description: Tariff Amendment: Notice of Cancellation of Market-Based Rate Tariff to be effective 10/15/2021.

Filed Date: 10/14/21.

Accession Number: 20211014-5076.

Comment Date: 5 p.m. ET 11/4/21.

Docket Numbers: ER22-106-000.

Applicants: Alabama Power Company.

Description: § 205(d) Rate Filing: Dellsol (Dellwood Solar) LGIA Filing to be effective 9/30/2021.

Filed Date: 10/14/21.

Accession Number: 20211014-5079.

Comment Date: 5 p.m. ET 11/4/21.

Docket Numbers: ER22-107-000.

Applicants: Public Service Company of Colorado.

Description: § 205(d) Rate Filing: 2021-10-14 PSC-SMS1-PLGIA-631-0.0.0 to be effective 10/15/2021.

Filed Date: 10/14/21.

Accession Number: 20211014-5092.

Comment Date: 5 p.m. ET 11/4/21.

Docket Numbers: ER22-108-000.

Applicants: Southwest Power Pool, Inc.

Description: § 205(d) Rate Filing: Revisions to Attachment X to Modify Minimum Capitalization Requirements to be effective 4/30/2022.

Filed Date: 10/14/21.

Accession Number: 20211014-5096.

Comment Date: 5 p.m. ET 11/4/21.

Docket Numbers: ER22-109-000.

Applicants: Cheyenne Light, Fuel and Power Company.

Description: § 205(d) Rate Filing: Filing of Jurisdictional Agreements to be effective 12/31/9998.

Filed Date: 10/14/21.

Accession Number: 20211014-5099.

Comment Date: 5 p.m. ET 11/4/21.

Docket Numbers: ER22-110-000.

Applicants: Cheyenne Light, Fuel and Power Company.

Description: § 205(d) Rate Filing: Filing of Jurisdictional Agreements to be effective 12/31/9998.

Filed Date: 10/14/21.

Accession Number: 20211014-5104.

Comment Date: 5 p.m. ET 11/4/21.

Docket Numbers: ER22-111-000.

Applicants: Arizona Public Service Company.

Description: § 205(d) Rate Filing: Rate Schedule No. 217 Exhibit B Revisions to be effective 12/17/2021.

Filed Date: 10/14/21.

Accession Number: 20211014-5121.

Comment Date: 5 p.m. ET 11/4/21.

Docket Numbers: ER22-99-000.

Applicants: MATL LLP.

Description: § 205(d) Rate Filing: OATT Clarifying L-T Sales Changes to be effective 12/14/2021.

Filed Date: 10/14/21.

Accession Number: 20211014-5006.

Comment Date: 5 p.m. ET 11/4/21.

Take notice that the Commission received the following electric securities filings:

Docket Numbers: ES22-7-000; ES22-8-000.

Applicants: Entergy New Orleans, LLC, Entergy Louisiana, LLC.

Description: Application Under Section 204 of the Federal Power Act for Authorization to Issue Securities of Entergy Louisiana, LLC, et al.

Filed Date: 10/13/21.

Accession Number: 20211013-5219.

Comment Date: 5 p.m. ET 11/3/21.

Take notice that the Commission received the following PURPA 210(m)(3) filings:

Docket Numbers: QM22-4-000.

Applicants: Ohio Edison Company, Cleveland Electric Illuminating Company, Toledo Edison Company, West Penn Power Company, Pennsylvania Power Company, Pennsylvania Electric Company, Jersey Central Power & Light Company, Metropolitan Edison Company, Monongahela Power Company, Potomac Edison Company.

Description: Application of FirstEnergy Utility Companies to Terminate Its Mandatory Purchase Obligation under the Public Utility Regulatory Policies Act of 1978.

Filed Date: 10/13/21.

Accession Number: 20211013-5215.

Comment Date: 5 p.m. ET 11/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2021.
Kimberly D. Bose,
Secretary.

[FR Doc. 2021-22835 Filed 10-19-21; 8:45 am]

BILLING CODE 6717-01-P